DEPARTMENT OF TRANSPORTATION

Federal Aviation Administration

14 CFR Part 39

[Docket No. FAA-2010-0670; Directorate Identifier 2009-SW-42-AD]

RIN 2120-AA64

Airworthiness Directives; Eurocopter France (ECF) Model SA330F, G, and J; and AS332C, L, L1, and L2 Helicopters

AGENCY: Federal Aviation Administration (FAA), DOT.

ACTION: Notice of proposed rulemaking (NPRM).

SUMMARY: We propose to adopt a new airworthiness directive (AD) for the specified ECF model helicopters. This proposed AD results from a mandatory continuing airworthiness information (MCAI) AD issued by the European Aviation Safety Agency (EASA), which is the Technical Agent for the Member States of the European Community. The MCAI AD states that EASA received a report of a rear hinged door on a Model AS332L1 helicopter opening in flight without loss of the door. Examinations revealed incorrect positioning of a door catch that resulted in incorrect locking and uncontrolled opening of the door. This condition, if not detected and corrected, can lead to the loss of the hinged door in flight, damage to the main or tail rotor blades, and subsequent loss of control of the helicopter.

DATES: We must receive comments on this proposed AD by August 6, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this proposed AD from American Eurocopter Corporation, 2701 Forum Drive, Grand Prairie, TX 75053-4005, telephone (800) 232-0323, fax (972) 641-3710, or at http://www.eurocopter.com.

Examining the Docket: You may examine the AD docket on the Internet at http://www.regulations.gov or in person at the Docket Operations office between 9 a.m. and 5 p.m., Monday through Friday, except Federal holidays. The AD docket contains this proposed AD, the economic evaluation, any comments received, and other information. The street address for the Docket Operations Office (telephone (800) 647-5527) is stated in the ADDRESSES section of this proposal. Comments will be available in the AD docket shortly after receipt.

FOR FURTHER INFORMATION CONTACT: DOT/FAA Southwest Region, Gary Roach, ASW-111, Aviation Safety Engineer, Rotorcraft Directorate, Regulations and Guidance Group, 2601 Meacham Blvd, Fort Worth, Texas 76137, telephone (817) 222-5130, fax (817) 222-5961.

SUPPLEMENTARY INFORMATION:

Comments Invited

We invite you to send any written data, views, or arguments about this proposed AD. Send your comments to an address listed in the ADDRESSES section of this proposal. Include “Docket No. FAA-2010-0670; Directorate Identifier 2009-SW-42-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

EASA, which is the Technical Agent for the Member States of the European Community, has issued EASA AD No. 2009-0015, dated January 21, 2009, to correct an unsafe condition for the specified ECF model helicopters.

The MCAI AD states that EASA received a report of a rear hinged door on a Model AS332L1 helicopter opening in flight without loss of the door. Examinations revealed incorrect positioning of a door catch that “induced incorrect locking and resulted in uncontrolled opening of the door.” This condition, if not detected and corrected, can lead to the loss of the hinged door in flight, damage to the main or tail rotor blades, and subsequent loss of control of the helicopter.

You may obtain further information by examining the MCAI AD and any related service information in the AD docket.

Related Service Information

ECF has issued Alert Service Bulletin (ASB) Nos. 52.13 for the SA330F, G, and J helicopters, and 52.00.38 for the AS332C, C1, L, L1, and L2 helicopters, both ASBs dated December 1, 2008. The ASBs specify inspecting the upper and lower catches of the hinged doors to ensure the catches are correctly positioned. The actions described in the MCAI AD are intended to correct the unsafe condition identified in the service information. The AS332C1 is not type certificated in the United States.

FAA's Evaluation and Unsafe Condition Determination

These helicopters have been approved by the aviation authority of France and are approved for operation in the United States. Pursuant to our bilateral agreement with France, EASA, their Technical Agent, has notified us of the unsafe condition described in the MCAI AD. We are proposing this AD because we evaluated all information provided by EASA and determined the unsafe condition exists and is likely to exist or develop on other helicopters of these same type designs. This proposed AD would require the following:

• Within the next 220 hours time-in-service (TIS) or 6 months, whichever occurs first, inspecting the positioning of each lower and upper door catch.

• If any door catch is improperly installed, before further flight, replacing the affected catch, adjusting the micro-switches, and doing a functional test of the hinged door indicating system.

The requirements would be done by following the specified portions of the ASBs.

Differences Between This AD and the MCAI AD

We refer to flight hours as hours TIS. This AD does not apply to the Model AS332C1 because that model is not FAA type certificated.

Costs of Compliance

We estimate that this proposed AD would affect about 10 helicopters of U.S. registry. We also estimate that it would take about 2 work-hours per helicopter to inspect each door catch for correct position of the door hinges, replace an affected catch, adjust the micro-switches of the hinged door, and do a functional test. The average labor rate is $85 per work-hour. The cost of the required parts is minimal. Based on these figures, we estimate the cost of the proposed AD on U.S. operators would be $1,700.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on product(s) identified in this rulemaking action.

Regulatory Findings

We determined that this proposed AD would not have federalism implications under Executive Order 13132. This proposed AD would not have a substantial direct effect on the States, on the relationship between the national Government and the States, or on the distribution of power and responsibilities among the various levels of government.

Therefore, I certify this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

EUROCOPTER FRANCE: FAA-2010-0670; Directorate Identifier 2009-SW-42-AD.

Comments Due Date

(a) We must receive your comments by August 6, 2010.

Other Affected ADs

(b) None.

Applicability

(c) This AD applies to Model SA330F, G, J, and AS332C, L, L1, and L2 helicopters, certificated in any category.

Reason

(d) The mandatory continuing airworthiness information (MCAI) AD states that EASA received a report of a rear hinged door on a Model AS332L1 helicopter opening in flight without loss of the door. Examinations revealed incorrect positioning of a door catch that resulted in incorrect locking and uncontrolled opening of the door. This condition, if not detected and corrected, can lead to the loss of the hinged door in flight, damage to the main or tail rotor blades, and subsequent loss of control of the helicopter.

Actions and Compliance

(e) Required as indicated.

(1) Within the next 220 hours time-in-service (TIS) or 6 months, whichever occurs first, unless done previously, inspect the position of each upper and lower door catch:

(i) As depicted in Figures 1 through 4 and by following the Accomplishment Instructions, Table 1 of paragraph 2.B.2., of Alert Service Bulletin (ASB) No. 52.13, dated December 1, 2008 (ASB 52.13) for the Model SA330F, G, and J helicopters, or

(ii) As depicted in Figures 1 through 5 and by following the Accomplishment Instructions, Table 1 of paragraph 2.B.2. of ASB No. 52.00.38, dated December 1, 2008 (ASB 52.00.38) for the Model AS332C, L, L1, and L2 helicopters.

(2) Before further flight, replace each improperly positioned catch by following the Accomplishment Instructions, paragraphs 2.B.3. and 2.B.4., of ASB 52.13 or ASB 52.00.38, as appropriate for your model helicopter.

(3) Before further flight, adjust each micro-switch, and conduct a functional test of the hinged-door indicating system:

(i) By following the Accomplishment Instructions, paragraph 2.B.5. and 2.B.6., of ASB 52.13, for the Model SA330F, G, and J helicopters, or

(ii) By following the Accomplishment Instructions, paragraph 2.B.5.a. through 2.B.5.b. of ASB 52.00.38 for the Model AS332C, L, L1, and L2 helicopters.

Differences Between This AD and the MCAI AD

(f) We refer to flight hours as hours TIS. This AD does not apply to the Model AS332C1 because that model is not FAA type certificated.

Other Information

(g) Alternative Methods of Compliance (AMOCs): The Manager, Safety Management Group, ATTN: DOT/FAA Southwest Region, Gary Roach, ASW-111, Aviation Safety Engineer, Rotorcraft Directorate, Regulations and Guidance Group, 2601 Meacham Blvd, Fort Worth, Texas 76137, telephone (817) 222-5130, fax (817) 222-5961, has the authority to approve AMOCs for this AD, if requested using the procedures found in 14 CFR 39.19.

Related Information

(h) EASA MCAI AD No. 2009-0015, dated January 21, 2009, contains related information.

Joint Aircraft System/Component (JASC) Code

(i) The JASC Code is 5200: Doors.

Issued in Fort Worth, Texas, on June 11, 2010.
Scott A. Horn,
Acting Manager, Rotorcraft Directorate, Aircraft Certification Service.

[FR Doc. 2010-16528 Filed 7-6-10; 8:45 am]

BILLING CODE 4910-13-P